DEPARTMENT OF LABOR

Office of the Secretary

Submission for OMB Review: Comment Request

November 10, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor, Office of Management and Budget, Room 10235, Washington, DC 20503, Telephone: 202-395-7316/Fax: 202-395-5806 (these are not toll-free numbers), Email: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Workers' Compensation Programs.

Type of Review: Extension without change of a currently approved collection.

Title of Collection: Representative Fee Request.

OMB Control Number: 1215-0078.

Agency Form Number: CA-143.

Affected Public: Private Sector—Businesses and other for-profits.

Total Estimated Number of Respondents: 8,404.

Total Estimated Annual Burden Hours: 5,419.

Total Estimated Annual Costs Burden: $12,806.

Description: Individuals filing for compensation benefits with the Office of Workers' Compensation Programs (OWCP) may be represented by an attorney or other representative. The representative is entitled to request a fee for services under 20 CFR 10.700-703 (Federal Employees' Compensation Act) and 20 CFR 702.132 (Longshore and Harbor Workers' Compensation Act). The fee must be approved by the OWCP before any demand for payment can be made by the representative. Under the FECA, the representative is required to submit for review any fees resulting from representing the claimant in filing for benefits. The program does not make payment, but reviews the fee request to ensure that it is consistent with services provided, and with customary local charges for similar services. Fee requests received have been used to approve attorney's fees, allowing the attorney to pursue payment of an appropriate amount from the claimant. If the fee requested is considered excessive, in view of the criteria outlined in the regulations, the fee approved would be reduced accordingly. For additional information, see related notice published at Volume 74 FR 46237 on September 8, 2009.

Agency: Office of Workers' Compensation Programs.

Type of Review: Extension without change of a currently approved collection.

Title of Collection: Request for Employment Information.

OMB Control Number: 1215-0105.

Agency Form Number: CA-1027.

Affected Public: Private Sector—Businesses and other for-profits.

Total Estimated Number of Respondents: 500.

Total Estimated Annual Burden Hours: 125.

Total Estimated Annual Costs Burden: $235.

Description: This information collection is used to collect information about a claimant's employment. It is necessary to determine continued eligibility for compensation payments under Federal Employees' Compensation Act. For additional information, see related notice published at Volume 74 FR 42124 on August 20, 2009.

Agency: Office of Workers' Compensation Programs.

Type of Review: Extension without change of a currently approved collection.

Title of Collection: Claim for Medical Reimbursement Form.

OMB Control Number: 1215-0193.

Agency Form Number: OWCP-915.

Affected Public: Individuals or households.

Total Estimated Number of Respondents: 16,824.

Total Estimated Annual Burden Hours: 11,171.

Total Estimated Annual Costs Burden: $103,636.

Description: Form OWCP-915 is used to claim reimbursement for out-of-pocket covered medical expenses paid by a beneficiary, and must be accompanied by required billing data elements (prepared by the medical provider) and by proof of payment by the beneficiary. For additional information, see related notice published at Volume 74 FR 384744 on August 3, 2009.

Agency: Office of Workers' Compensation Programs.

Type of Review: Extension without change of a currently approved collection.

Title of Collection: Pharmacy Billing Requirements.

OMB Control Number: 1215-0194.

Agency Form Number: N/A.

Affected Public: Private Sector—Businesses and other for-profits.

Total Estimated Number of Respondents: 28,150.

Total Estimated Annual Burden Hours: 121,494.

Total Estimated Annual Costs Burden: $0.

Description: The National Council for Prescription Drug Programs Standardized Pharmacy Billing Data Requirements is the electronic billing format used by pharmacies throughout the country to request payment for prescription drugs through data clearinghouses. They identify the provider, claimant, prescribing physician, drug by National Drug Code number, prescription volume and charge. Similar data elements are required to process paper-based pharmacy bills. For additional information, see related notice published at Volume 74 FR 37733 on July 29, 2009.

Darrin A. King,
Departmental Clearance Officer.

[FR Doc. E9-27461 Filed 11-16-09; 8:45 am]

BILLING CODE 9111-97-P